Environmental Protection Agency

[FRL-7562-2]

CSFII Analysis of Food Intake Distributions

AGENCY: Environmental Protection Agency.

ACTION: Notice of availability of final document.

SUMMARY: The U.S. Environmental Protection Agency (EPA) announces the availability of a final document, CSFII Analysis of Food Intake Distributions (EPA/600/R-03/029, March 2003), prepared by the National Center for Environmental Assessment-Washington (NCEA-W), within EPA's Office of Research and Development. The report was compiled by the Exposure Assessment Division of Versar, Inc., in Springfield, Virginia under an EPA contract. NCEA published the Exposure Factors Handbook (EFH) in 1997 (EPA/600/P-95/002Fa-c). The handbook provides a summary of the available statistical data on various factors used in assessing human exposure. The primary source of information on consumption rates of food presented in the handbook is the U.S. Department of Agriculture's (USDA's) Continuing Survey of Food Intakes by Individuals (CSFII). It was recommended by the Science Advisory Board that the EFH be kept up-to-date and that food consumption from USDA's most recent national survey be analyzed for an update to the Handbook. The purpose of this report is to present the analysis of the CSFII 1994-96 data for food consumption and to update chapters 9, 11, and 12 of the EFH data.

ADDRESSES: The document is available electronically from the NCEA Web site (http://www.epa.gov/ncea). A limited number of copies will be available from EPA's National Service Center for Environmental Publications (NSCEP) in Cincinnati, Ohio (telephone: 1-800-490-9198, or 513-489-8190; facsimile 513-489-8695). Please provide the title and EPA number when ordering from NSCEP. Documents also may be ordered via the internet at http://www.epa.gov/NCEPIhome/orderpub.html. Paper copies may be purchased from the National Technical Information Service (NTIS) in Springfield, VA (1-800-553-NTIS[6847] or 703-605-6000; facsimile 703-321-8547). Please provide the number, PB2003-103268, for this document when ordering from NTIS.

FOR FURTHER INFORMATION CONTACT: For further information, please contact Jacqueline Moya (202-564-3245); mailing address: National Center for Environmental Assessment, (8623D), U.S. Environmental Protection Agency, 1200 Pennsylvania Avenue, NW., Washington, DC 20460; facsimile: 202-565-0076; e-mail: moya.jackie@epa.gov.

Dated: September 10, 2003.
Peter W. Preuss,
Director, National Center for Environmental Assessment.

[FR Doc. 03-24007 Filed 9-18-03; 12:01 pm]

BILLING CODE 6560-50-P